DEPARTMENT OF AGRICULTURE

Agricultural Marketing Service

[TB-00-09]

Flue-Cured Tobacco Advisory Committee—Notice of Committee Renewal

AGENCY: Agricultural Marketing Service, USDA.

ACTION: Notice of committee renewal.

SUMMARY: Notice is hereby given that the Secretary of Agriculture has renewed the Flue-Cured Tobacco Advisory Committee for an additional period of 2 years.

FOR FURTHER INFORMATION CONTACT: John P. Duncan III, Deputy Administrator, Tobacco Programs, AMS, USDA, 300 12th Street, S.W., Stop 0280, Room 502 Annex Building, P.O. Box 96456, Washington, D.C. 20090-6456, (202) 205-0567.

SUPPLEMENTARY INFORMATION: The Committee, which reports to the Secretary through the Under Secretary for Marketing and Regulatory Programs, recommends opening dates and selling schedules for the flue-cured marketing area which aid the Secretary in making an equitable apportionment and assignment of tobacco inspectors. The Committee consists of 39 members; 21 producer representatives, 10 warehouse representatives, and 8 buyer representatives, representing all segments of the flue-cured tobacco industry and meets at the call of the Secretary. The Secretary has determined that renewal of this Committee is in the public interest.

To ensure that recommendations of the Committee take into account the needs of diverse groups served by the Department, membership should include, to the extent practicable, persons with demonstrated ability to represent minorities, women, and persons with disabilities.

This notice is given in compliance with the Federal Advisory Committee Act (5 U.S.C. App.).

Dated: May 22, 2000.
Paul W. Fiddick,
Assistant Secretary for Administration.

[FR Doc. 00-13239 Filed 5-25-00; 8:45 am]

BILLING CODE 3410-02-P